DEPARTMENT OF ENERGY

Federal Energy Regulatory Commission

[Project No. 190-105]

Notice of Technical Conference and Environmental Site Review: Moon Lake Electric Association, Inc.

a. Date and Time: The technical conference will be on Wednesday, September 26, 2018, beginning at 9:00 a.m. (MDT) and concluding no later than 5:00 p.m. (MDT).

b. Location: Springhill Suites Marriott, 1205 West Highway 40, Vernal, Utah 84078. For directions, please contact the Springhill Suites Marriott at (435) 781-9000.

c. FERC Contact: Quinn Emmering at (202) 502-6382 or quinn.emmering@ferc.gov.

d. Purpose of Meeting: To discuss the need for additional studies related to aquatic and fisheries resources on Pole Creek (one of three water sources diverted for the project) for our environmental analysis as part of the relicensing process for the Uintah Project.

e. The technical conference will be recorded by a stenographer and will be placed in the public records of the project.

f. All local, state, and federal agencies, Indian tribes, and other interested parties are invited to participate either in person or by telephone. Please contact Quinn Emmering at (202) 502-6382 or by email at quinn.emmering@ferc.gov by 4:00 p.m. (Eastern), September 20, 2018, to receive specific instructions on how to participate by telephone or have any questions.

g. In addition, Moon Lake Electric Association, Inc. (Moon Lake) and FERC staff will conduct an environmental site review of the project on Tuesday, September 25, 2018, starting at 9:00 a.m. (MDT). All interested individuals, organizations, and agencies are invited to attend. The Uintah Project is located approximately 15 miles north of Neola, Utah.

h. For the environmental site review, Moon Lake has made arrangements to provide transportation for participants from The Church of Jesus Christ of Latter-Day Saints parking lot located at 2062 W 9000N, Neola, Utah 84053 (at intersection with 2000W). Please note that the project tour is expected to take 4 hours, at minimum. No lunch is provided and food services in the Neola area are limited. Participants should make their own arrangements to bring food and beverages. Participants should dress appropriately for fall weather outdoors and wear hiking boots or similar footwear. Please RSVP Pat Corun at (435) 722-5406 or by email at pcorun@mleainc.com on or before September 14, 2018, if you plan to attend the environmental site review or have any questions.

Dated: August 30, 2018.
Kimberly D. Bose,
Secretary.

[FR Doc. 2018-19237 Filed 9-5-18; 8:45 am]

BILLING CODE 6717-01-P